INTERNATIONAL TRADE COMMISSION

[Investigation No. 332-345]

Recent Trends in U.S. Services Trade, 2014 Annual Report

AGENCY: United States International Trade Commission.

ACTION: Schedule for 2014 report and opportunity to submit information.

SUMMARY: The Commission has prepared and published annual reports in this series under investigation No. 332-345, Recent Trends in U.S. Services Trade, since 1996. The 2014 report, which the Commission plans to publish in April 2014, will provide aggregate data on cross-border trade in services for the period ending in 2012, and transactions by affiliates based outside the country of their parent firm for the period ending in 2011. The report's analysis will focus on electronic services (audiovisual, computer, and telecommunication services). The Commission is inviting interested members of the public to furnish information in connection with the 2014 report.

DATES: October 25, 2013: Deadline for filing written submissions.

April 30, 2014: Anticipated date for publishing the report.

ADDRESSES: All Commission offices are located in the United States International Trade Commission Building, 500 E St. SW., Washington, DC. All written submissions should be addressed to the Secretary, United States International Trade Commission, 500 E St. SW., Washington, DC 20436. The public record for this investigation may be viewed on the Commission's electronic docket information system (EDIS) at https://edis.usitc.gov/edis3-internal/app.

FOR FURTHER INFORMATION CONTACT: Project Leader Joann Peterson (202-205-3032 or joann.peterson@usitc.gov) or Services Division Chief Richard Brown (202-205-3438 or richard.brown@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: The 2014 annual services trade report will provide aggregate data on cross-border trade and affiliate transactions in services, and more specific data and information on trade in electronic services (audiovisual, computer, and telecommunication services). Under Commission investigation No. 332-345, the Commission publishes two annual reports, one on services trade (Recent Trends in U.S. Services Trade), and a second on merchandise trade (Shifts in U.S. Merchandise Trade). The Commission's 2013 annual report in the series of reports on Recent Trends in U.S. Services Trade is now available online at http://www.usitc.gov; it is also available in CD and printed form from the Office of the Secretary at 202-205-2000 or by fax at 202-205-2104.

The initial notice of institution of this investigation was published in the Federal Register on September 8, 1993 (58 FR 47287) and provided for what is now the report on merchandise trade. The Commission expanded the scope of the investigation to cover services trade in a separate report, which it announced in a notice published in the Federal Register on December 28, 1994 (59 FR 66974). The separate report on services trade has been published annually since 1996, except in 2005. As in past years, the report will summarize trade in services in the aggregate and provide analyses of trends and developments in selected services industries during the latest period for which data are published by the U.S. Department of Commerce, Bureau of Economic Analysis. As indicated above, the 2014 report will focus on trade in electronic services (audiovisual, computer, and telecommunication services).

Written Submissions: Interested parties are invited to submit written statements and other information concerning the matters to be addressed by the Commission in its report on this investigation. For the upcoming 2014 annual report, the Commission is particularly interested in receiving information relating to trade in electronic services (audiovisual, computer, and telecommunication services). Submissions should be addressed to the Secretary. To be assured of consideration by the Commission, written submissions related to the Commission's report should be submitted at the earliest practical date and should be received not later than 5:15 p.m., October 25, 2013. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform with the requirements in section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

The Commission intends to prepare only a public report in this investigation. The report that the Commission makes available to the public will not contain confidential business information. Any confidential business information received by the Commission in this investigation and used in preparing the report will not be published in a manner that would reveal the operations of the firm supplying the information.

Issued: September 16, 2013.
By order of the Commission.
Lisa R. Barton,
Acting Secretary to the Commission.

[FR Doc. 2013-22897 Filed 9-19-13; 8:45 am]

BILLING CODE 7020-02-P